DEPARTMENT OF COMMERCE

Foreign-Trade Zones Board

[Order No. 1661]

Reorganization of Foreign-Trade Zone 274 Under Alternative Site Framework; City and County of Butte-Silver Bow, MT

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the City and County of Butte-Silver Bow, Montana, grantee of Foreign-Trade Zone 274, submitted an application to the Board (FTZ Docket 33-2009, filed 8/4/2009) for authority to reorganize under the ASF with a service area of Butte-Silver Bow County, Montana, within and adjacent to the Butte-Silver Bow Customs and Border Protection port of entry, and FTZ 274's existing Site 1 would be categorized as a magnet site;

Whereas, notice inviting public comment was given in the Federal Register (74 FR 40566-40567, 8/12/09) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize FTZ 274 under the alternative site framework is approved, subject to the FTZ Act and the Board's regulations, including Section 400.28, and to the Board's standard 2,000-acre activation limit for the overall general-purpose zone project.

Signed at Washington, DC, this February 5, 2010.
Ronald K. Lorentzen,
Deputy Assistant Secretary for Import Administration, Alternate Chairman, Foreign-Trade Zones Board.
Andrew McGilvray,
Executive Secretary.

[FR Doc. 2010-4054 Filed 2-25-10; 8:45 am]

BILLING CODE P